DEPARTMENT OF COMMERCE

National Oceanic and Atmospheric Administration

DEPARTMENT OF THE INTERIOR

Fish and Wildlife Service

[I.D. 011300C]

Availability of a Draft Environmental Impact Statement and Receipt of an Application for Incidental Take Permits for the Tacoma Water Department, Green River Watershed, Habitat Conservation Plan, King County, Washington

AGENCIES: National Marine Fisheries Service (NMFS), National Oceanic and Atmospheric Administration, Commerce; Fish and Wildlife Service (FWS), Interior.

ACTION: Notice of application and availability for public comment.

SUMMARY: This notice advises the public that the City of Tacoma, Public Utilities, Water Division (Tacoma Water), has submitted an application to NMFS and FWS (the Services) for incidental take permits (Permits) pursuant to section 10(a)(1)(B) of the Endangered Species Act of 1973, as amended (Act). As required by section 10(a)(2)(B) of the Act, Tacoma Water has also prepared a habitat conservation plan (Plan) designed to minimize and mitigate any such take of endangered or threatened species. The Permit application is related to water storage and withdrawal from the Green River, and forest management activities in the Green River Watershed, located in south King County, Washington. The proposed Permits would authorize the take of the following endangered or threatened species incidental to otherwise lawful management activities: gray wolf (Canis lupus); bald eagle (Haliaeetus leucocephalus); marbled murrelet (Brachyramphus marmoratus marmoratus); northern spotted owl (Strix occidentalis); grizzly bear (Ursus arctos); bull trout (Salvelinus confluentus); and, Puget Sound chinook salmon (Oncorhynchus tshawytscha). Tacoma Water is also seeking coverage for 25 currently unlisted species (including anadromous and resident fish) under specific provisions of the Permits, should these species be listed in the future. The duration of the proposed Permits and Plan is 50 years.

The Permit application includes the proposed Plan; and a proposed Implementing Agreement. The Services also announce the availability of a draft Environmental Impact Statement (EIS) for the Permit application.

This notice is provided pursuant to section 10(a) of the Act, and National Environmental Policy Act (NEPA) regulations. The Services are furnishing this notice in order to allow other agencies and the public an opportunity to review and comment on these documents. All comments received will become part of the public record and will be available for review pursuant to section 10(c) of the Act.

DATES: Written comments on the Permit application, Draft EIS, Plan, and Implementing Agreement must be received from interested parties no later than March 14, 2000.

ADDRESSES: Requests for documents on CD ROM should be made by calling the Fish and Wildlife Service at 360/534-9330. Hardbound copies are also available for viewing, and partial or complete duplication, at the following libraries: Olympia Timberland Library, Reference Desk, 313 8th Avenue SE, Olympia, WA, 360/352-0595; Tacoma Main Public Library, 1102 Tacoma Avenue South, Tacoma, WA, 253/591-5666; Enumclaw City Library, 1700 1st Street, Enumclaw, WA, 360/825-2938; Auburn Public Library, 808 9th Street SE, Auburn, WA, (253)931-3918; and Seattle Public Library, Government Publications Desk, 1000 4th Avenue, Seattle, WA, 206/386-4636. The documents are also available electronically on the World Wide Web at http://www.r1.fws.gov/.

Comments and requests for information should be directed to Tim Romanski, Project Biologist, Fish and Wildlife Service, 510 Desmond Drive, SE., Suite 102, Lacey, WA, 98503-1273, (telephone: 360/753-5823; facsimile: 360/534-9331), or Mike Grady, Project Biologist, National Marine Fisheries Service, 510 Desmond Drive, SE., Suite 103, Lacey, WA, 98503-1273 (telephone: 360/753-6052; facsimile: 360/753-9517). Comments and materials received will also be available for public inspection, by appointment, during normal business hours by calling 360/534-9330.

SUPPLEMENTARY INFORMATION: Section 9 of the Act and Federal regulations prohibit the “taking” of a species listed as endangered or threatened. The term “take” is defined under the Act to mean harass, harm, pursue, hunt, shoot, wound, kill, trap, capture, or collect, or to attempt to engage in any such conduct. FWS defines harm to include significant habitat modification or degradation where it actually kills or injures wildlife by significantly impairing essential behavioral patterns, including breeding, feeding, and sheltering (50 CFR 17.3). NMFS defines harm to include significant habitat modification or degradation where it actually kills or injures fish or wildlife by significantly impairing essential behavioral patterns, including breeding, spawning, rearing, feeding, and sheltering (64 FR 60727, November 8, 1999).

The Services may issue permits, under limited circumstances, to take listed species incidental to, and not the purpose of, otherwise lawful activities. FWS regulations governing permits for endangered species are promulgated in 50 CFR 17.22; and, regulations governing permits for threatened species are promulgated in 50 CFR 17.32. NMFS regulations governing permits for threatened and endangered species are promulgated at 50 CFR 222.307.

Background

Tacoma Water owns and conducts management activities in the Green River Watershed, in King County, Washington. These activities are as follows: (1) a water diversion dam and associated facilities (Headworks) on the Green River; (2) approximately 14,888 acres of land upstream of the diversion dam on both sides of the River; and, (3) a well field (North Fork Well Field) located approximately 8 kilometers (5 miles) upstream of the Headworks. Tacoma Water operates and manages the Headworks, watershed lands, and the North Fork Well Field as the principal source of municipal and industrial water for the City of Tacoma and portions of Pierce and King Counties. Howard Hanson Dam (Dam) and Howard Hanson Reservoir (Reservoir), owned and operated by the Army Corps of Engineers (Corps), are also located on the Green River, upstream of the Headworks. City lands in the watershed are adjacent to the Dam and Reservoir on all sides.

Current trends in population growth within the Puget Sound region create a need for Tacoma Water to explore possibilities for increasing its water supply capabilities. To meet forecasted demands, Tacoma Water has developed two separate but related proposals. The first of these, the Second Supply Project, involves improvements at the Headworks and the construction of a 33.5-mile long pipeline from the Headworks to the City of Tacoma. Upstream fish passage around the Headworks and the Dam will be provided by the City of Tacoma as partial mitigation for the Second Supply Project. This project is the subject of a State Environmental Policy Act review in the document entitled “Final Supplemental Environmental Impact Statement for the Second Supply Project, October 18, 1994,” prepared by Tacoma Water. The second related proposal was developed in conjunction with the Corps, and in cooperation with the Services, the Washington Department of Fish and Wildlife, Washington Department of Ecology, and the Muckleshoot Indian Tribe, to increase the volume of water stored behind the Dam during non-flood control periods (i.e. late spring, summer and early fall). Known as the Additional Water Storage Project (AWSP), this plan incorporates restoration and mitigation measures (including downstream fish passage) to alleviate the historical barrier to migrating salmon created by the Corps' Dam. The size of the Dam will not change as a result of the AWSP. This AWSP is the subject of a NEPA review in the document entitled “Additional Water Storage Project, Final Feasibility Study Report and Final Environmental Impact Statement, Howard Hanson Dam, Green River, Washington, August, 1998,” prepared by the Seattle District of the Corps.

Tacoma Water's activities associated with water withdrawl and water supply, and forest management and timber harvest have the potential to impact species subject to protection under the Act. Section 10 of the Act contains provisions for the issuance of incidental take permits to non-Federal landowners for the take of endangered and threatened species, provided the take is incidental to otherwise lawful activities, and will not appreciably reduce the likelihood of the survival and recovery of the species in the wild. In addition, the applicant must prepare and submit to the Services for approval a habitat conservation plan containing a strategy for minimizing and mitigating all take associated with the proposed activities to the maximum extent practicable. The applicant must also ensure that adequate funding for the habitat conservation plan will be provided.

Tacoma Water has developed a Plan with technical assistance from the Services, to obtain Permits for their activities in the Green River Watershed. Activities proposed for coverage under the Permits include the following.

(1) Water withdrawal at the Headworks for Municipal and Industrial Water Supply, which will reduce flows and have concomitant habitat effects downstream and include the bypass of fish at the Headworks intake, and inundate the small impoundment area.

(2) Water withdrawal from the North Fork Well Field for Municipal and Industrial Water Supply, which will potentially reduce flows in the North Fork Green River above the Howard Hanson Reservoir.

(3) Construction of Headworks improvements (anticipated to occur during a 2 year period). Such construction will cause: (a) bypassing of fish at the Headworks intake during construction; (b) raising the existing diversion dam by approximately 6.5, feet which will extend the inundation pool to about 2,570 feet upstream of the Headworks diversion; (c) realigning and enlarging the existing intake and adding upgraded fish screens and bypass facilities for downstream passage; (d) reshaping the Green River channel downstream of the existing diversion to accommodate the installation of an efficient trap-and-haul facility for upstream fish passage; (e) installation of a new trap-and-haul facility for upstream fish passage; and, (f) installation, monitoring and maintenance of the instream structures in the impoundment for the Headworks dam raise fisheries mitigation.

(4) Operation of a downstream fish bypass facility at the Headworks.

(5) Watershed forest management activities, consisting of: (a) watershed patrol and inspection; (b) forest road construction, maintenance, and use; (c) forest road culvert removal, replacement, and maintenance; (d) timber harvest and hauling; and, (e) silvicultural activities (e.g., planting, thinning, and inventorying trees).

(6) Monitoring of downstream fish passage through a proposed fish passage facility at the Howard Hanson Dam, associated with the AWSP.

(7) Monitoring and maintenance of AWSP fish habitat restoration projects and AWSP fish and wildlife habitat mitigation projects.

(8) Potential restoration of anadromous fish above the Howard Hanson Dam by trapping and hauling of adults returning to the Headworks, and possible planting of hatchery juveniles if found to be beneficial to restoration.

The Services formally initiated an environmental review of the project through a Federal Register notice on August 21, 1998 (63 FR 44918), which announced a 30-day public scoping period. A second Federal Register notice was published following the scoping period on January 20, 1999 (64 FR 3066), announcing the decision to prepare an EIS. Following this announcement a draft EIS was prepared.

The analyses in the draft EIS are done in two parts; one covering the alternatives for water withdrawal activities, and the other covering alternatives for land management activities in the upper watershed. Three water withdrawal alternatives are analyzed in detail, including: (1) the no action alternative; (2) the proposed Plan alternative; and, (3) an alternative involving the construction of a new water withdrawal facility approximately 30 miles downstream of the existing Tacoma Water's Headworks. Four additional water withdrawal options were identified during scoping, but they are not analyzed in detail as alternatives to the proposed action because they would not accomplish Tacoma Water's objective of meeting current and future water demands, and/or because highly speculative information would be required to adequately analyze impacts.

Three alternatives are analyzed for Tacoma Water's watershed land management, including: (1) the no action alternative; (2) the proposed Habitat Conservation Plan alternative; and, (3) a no commercial timber harvest alternative. One additional watershed management option was identified during public scoping, but it was not analyzed in detail as an alternative to the proposed action because it would not accomplish Tacoma Water's objective of managing its watershed lands to protect water quality.

This notice is provided pursuant to section 10(a) of the Act, and NEPA regulations. The Services will evaluate the application, associated documents, and comments submitted thereon to determine whether the application meets the requirements of the Act and NEPA. If it is determined that the requirements are met, Permits will be issued for the incidental take of all covered species. The final Permit decisions will be made no sooner than 60 days from the date of this notice.

Dated: January 3, 2000.
Thomas Dwyer,
Acting Regional Director, Fish and Wildlife Service, Region 1, Portland, Oregon.
Dated: January 24, 2000.
Wanda L. Cain,
Chief, Endangered Species Division, Office of Protected Resources, National Marine Fisheries Service.

[FR Doc. 00-2011 Filed 1-28-00; 8:45 am]

BILLING CODES 3510-22-F, 4310-55-F